DEPARTMENT OF COMMERCE

International Trade Administration

[A-427-801]

Ball Bearings and Parts Thereof From France: Partial Rescission of Antidumping Duty Administrative Review

AGENCY: Import Administration, International Trade Administration, Department of Commerce.

SUMMARY: In response to requests from interested parties, the Department of Commerce (the Department) initiated an administrative review of the antidumping duty order on ball bearings and parts thereof from France. The period of review is May 1, 2009, through April 30, 2010. The Department is rescinding this review in part.

DATES: Effective Date: January 4, 2011.

FOR FURTHER INFORMATION CONTACT: Dustin Ross or Richard Rimlinger, AD/CVD Operations, Office 5, Import Administration, International Trade Administration, U.S. Department of Commerce, 14th Street and Constitution Avenue, NW., Washington, DC 20230; telephone: (202) 482-0747 or (202) 482-4477, respectively.

SUPPLEMENTARY INFORMATION:

Background

On June 30, 2010, based on requests from interested parties, we initiated an administrative review of the antidumping duty order on ball bearings and parts thereof from France in accordance with section 751(a) of the Tariff Act of 1930, as amended (the Act), and 19 CFR 351.221(c)(1)(i). See Initiation of Antidumping and Countervailing Duty Administrative Reviews and Requests for Revocation in Part, 75 FR 37759 (June 30, 2010).

Rescission of Review in Part

In accordance with 19 CFR 351.213(d)(1), the Department will rescind an administrative review in part “if a party that requested a review withdraws the request within 90 days of the date of the publication of notice of initiation of the requested review.” Subsequent to the initiation of this review, we received a timely withdrawal of the request for review we had received from the petitioner for Turbomeca S.A.

Because there are no other requests for review of Turbomeca S.A., we are rescinding the review with respect to Turbomeca S.A. in accordance with 19 CFR 351.213(d)(1). We will instruct U.S. Customs and Border Protection (CBP) to liquidate entries not still subject to the ongoing review at the rate required at the time of entry. See 19 CFR 351.212(c)(1).

The Department intends to issue appropriate assessment instructions to CBP 15 days after publication of this notice.

Notification

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice is published in accordance with section 777(i)(1) of the Act and 19 CFR 351.213(d)(4).

Dated: December 21, 2010.
Christian Marsh,
Deputy Assistant Secretary for Antidumping and Countervailing Duty Operations.

[FR Doc. 2010-33227 Filed 1-3-11; 8:45 am]

BILLING CODE 3510-DS-P